ENVIRONMENTAL PROTECTION AGENCY

[ER-FRL-6638-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 12, 2002 (67 FR 17992).

Draft EISs

ERP No. D-AFS-D65025-PA Rating EC1, County Line—Fourmile Project, Management Direction as Outlined in the Allegheny National Forest Land and Resource Management Plan, Implementation, Bradford Ranger District, Warren and McKean Counties, PA.

Summary: EPA expressed environmental concerns with impacts from erosion and sedimentation of streams associated with road construction, harvesting and reforestation treatments in Alternatives 2, 4 and 5. EPA supports Alternative 3 as the preferred alternative and suggested instituting measures to ensure no sediment transport offsite during storm events prior to re-establishment of ground cover after harvesting and reforestation treatments.

ERP No. D-AFS-K65248-CA Rating EC2, North Fork Fire Salvage Project, Harvest Salvage, Merchantable Timber Volume Sale and Sierra National Forest Land and Resource Management Plan, Implementation, Bass Lake Ranger District, Madera County, CA.

Summary: EPA expressed environmental concerns with potential adverse impacts to water quality given the only action alternative does not address consistency with EPA approved water quality standards.

ERP No. D-AFS-K65417-CA Rating LO, Blue Fire Forest Recovery Project, Proposal to Move the Existing Condition Caused by the Blue Fire of 2001 Towards the Desired Condition, Modoc National Forest, Warner Mountain Ranger District, Lassen and Modoc Counties, CA.

Summary:EPA has no objections to the proposed action provided full funding for completion of the proposed mitigation measures and monitoring described in the Draft EIS is provided.

ERP No. D-AFS-L65414-ID Rating EC2, Middle Little Salmon Vegetation Management Project, Timber Stands Current Condition Improvements, Payette National Forest, New Meadows Ranger District, Adam County, ID.

Summary: EPA expressed environmental concerns over the short term water quality and habitat impacts. EPA also expressed concerns over the need for additional information on road closure maintenance, enforcement and monitoring plans, and Tribal consultation and public participation.

ERP No. D-BIA-K60034-CA Rating EC2, Jamul Indian Village (Tribe) 101 Acre Fee-to-Trust Transfer and Casino Project, Implementation, San Diego County, CA.

Summary: EPA expressed environmental concerns regarding the project's potential impacts to ground water from effluent disposal and how Best Management Practices and mitigation would ensure compliance with EPA approved water quality standards. EPA also expressed concerns that the DEIS fully evaluated just one action alternative.

ERP No. D-COE-D11035-MD Rating LO, Aberdeen Proving Ground (APG) Project, Research and Development, Test and Evaluation Ordance of Military Equipment and Personnel Training, Chesapeake Bay, Hartford, Baltimore, Kent and Cecil Counties, MD.

Summary: EPA had no objections to the proposed action. EPA requested more information as to how the EIS would be integrated into the decision-making process at the Aberdeen Proving Ground. EPA also requested clarification whether an EIS or EA is being prepared for the Range Management Plan.

ERP No. D-COE-D35060-PA Rating EO2, Alleghany and Ohio Rivers Commercial Sand and Gravel Dredging Operations, Granting and Extending Permits for Continuance of Dredging, and U.S. Army COE Section 10 and 404 Permits Issuance, PA.

Summary: EPA expressed environmental objections because the DEIS did not adequately assess the potentially significant environmental impacts of the applicant's preferred alternative or explore the full range of alternatives available to reduce the adverse environmental impacts associated with this project. EPA also commented on the lack of information regarding specific permit conditions that are being proposed to mitigate resource damage related to the applicant's preferred alternative.

ERP No. D-COE-E01014-FL Rating EC2, Ona Mine Project, Construction and Operation of a Surface Mine for the Recovery of Phosphate Rock, Hardee County, FL.

Summary: EPA expressed environmental concerns for long-term reductions of groundwater reducing surface flows in the Peace River, Charlotte County's principal source of drinking water.

ERP No. D-FHW-G40172-TX Rating LO, TX-121 Highway Construction, I-30 to Farm-to-Market 1187 (FM 1187) Road, Funding, USCG Section 9, U.S. Army COE Section 10 and 404 Permits Issuance, Fort Worth, Tarrant County, TX.

Summary: EPA has no objections to the selection of the preferred alignment. EPA appreciates the opportunity to have participated in the development of the FHWA draft EIS.

ERP No. D-FRC-J03015-00 Rating EC2, Grasslands Pipeline Project, Interstate Natural Gas Pipeline System Construction and Operation, Docket No. CP02-037-000, WY, ND and MT.

Summary: EPA's main environmental concerns relate to potentially adverse impacts from construction to: (1) Wetlands, (2) sediment in streams and other waters, (3) establishment and spread of noxious weeds and (4) wildlife habitat. Additional evaluation, disclosure, and mitigation were requested. Cumulative impacts are associated with the Grassland Pipeline, related to proposed plans to produce coalbed methane gas in the Powder River Basin of Wyoming and Montana.

ERP No. D-FTA-G59000-LA Rating LO, Desire Streetcar Line Project, Restoration of Streetcar Service along North Rampart Street/St. Claude Avenue between Canal Street and Poland Avenue, City of New Orleans, LA.

Summary: EPA has no objections to the selection of the preferred alternative. EPA recommends additional air quality information to further strengthen the Final EIS.

ERP No. D-IBR-L39059-WA Rating NS, Banks Lake Drawdown Project, Proposal to Lower the Water Surface Elevation from 1565 feet to 1560 feet in August of Each Year, Columbia River, Douglas and Grant Counties, WA.

Summary: EPA used a screening tool to conduct a limited review of the draft EIS. Based on the screen, EPA does not foresee having any objections to the proposed project.

Therefore, EPA did not conduct a detailed review of the draft EIS.

ERP No. D-STB-G53008-TX Rating LO, Bayport Loop New Rail Line, Construction and Operation, Finance Docket No. 34079, Houston, Harris County, TX.

Summary: EPA has no objection to the selection of the preferred alternative.

ERP No. DA-FTA-L40205-00 Rating EC2, South Corridor Project a Portion of the South/North Corridor Project, Improvement to the Existing Urban Transportation System, Updated and Additional Information, Clackamas and Multnomah Counties, OR.

Summary: EPA has environmental concerns regarding aquatic resources, threatened and endangered species, community accessibility and potential construction impacts on hazardous waste sites.

ERP No DS-FTA-D40289-VA Rating LO, Norfolk Light Rail Transit Project, 8-Mile Light Rail Transit System Construction from the Western Terminus near Eastern Virginia Medical Center to an Eastern Terminus on Kempsville Road, City of Norfolk, VA.

Summary: EPA lacks objection to the project as proposed but recommends the HRT work with the Norfolk District Corps of Engineers to reduce further the 1.4 acres of wetland impacts during the design phase of the project.

Final EISs

ERP No. F-FHW-E40772-AL, Industrial Parkway Connector Project, Transportation Improvement, Lott Road/AL-217 to U.S. 45, Funding, U.S. Army COE Section 404 Permit and NPDES Permit Issuance, Mobile County, AL.

Summary: EPA continues to express environmental concern for impacts to wetlands and believes the document lacks sufficient information regarding the proposed wetlands mitigation site.

ERP No. F-FHW-F40406-00, Ironton-Russell Bridge Replacement Project, Structurally-Deficient and Functionally-Obsolete Bridge Replacement, Funding, NPDES, U.S. Coast Guard Section 9 Bridge Permits and U.S. Army COE Section 10 and 404 Permits Issuance, Lawrence County, OH and Greenup County, KY.

Summary: EPA has no outstanding environmental concerns and lacks objection to the project as proposed in the Final EIS.

ERP No. F-FHW-F54013-00, Chicago—St. Louis High-Speed Rail Project, Chicago to St. Louis Improvements to Enhance the Passenger Transportation Network, NPDES Permit and COE Section 404 Permit, Cook, Will, Kankakee Grundy, Livington, McLean, Sangemon, Macoupin, Jersey, Madison and St. Louis Counties, IL and St. Louis County, MO.

Summary: EPA has no significant environmental concerns with the proposed action. The concerns previously raised by EPA are not applicable to the preferred alternative selected in the Final EIS.

ERP No. F-FHW-H40174-IA, Avenue G Viaduct and Connecting Corridor, Access Improvement for Local Emergency Services and Safety Through Expanded Capacity across the Trail Corridor, Funding and NPDES Permit, Pottawattamie County, IA.

Summary: EPA lacks objection to the project as proposed in the final EIS but recommends a thorough asbestos inspection for properties to be demolished.

ERP No. F-FHW-L40199-WA, WA-509 Extension/South Access Road Corridor Construction Project, Funding and Possible US Army COE Section 404 Permit, Cities of SeaTac, Des Moines, Kent and Federal Way, King County, WA.

Summary: EPA has environmental concerns with the proposed project, specifically issues related to induced growth and potential impairment of air quality. The final EIS does not adequately discuss indirect and cumulative effects associated with the proposed project.

ERP No. F-FSA-A65173-00, Programmatic EIS—Emergency Conservation Program (ECP), Improvement and Expansion Plan, Emergency Funding to Farmers and Ranchers, Agricultural Lands of the United States.

Summary: No formal comment letter was sent to the preparing agency.

ERP No. F-FTA-E54011-FL, Tampa Rail Transportation Improvements Project, Light Rail Transit (LRT) or Diesel Multiple Unit (DMU) Vehicles, City of Tampa, Hillsborough County, FL.

Summary: EPA lacks objections to the project as described in the final EIS. EPA's previous concerns regarding the preferred alternative have been addressed.

ERP No. FS-COE-L32010-00, Columbia River Channel Improvement Project, Additional Information to Update the Disposal Plan and the Project Economics Plan, Columbia and Lower Williamette River Federal Navigation Channel, OR.

Summary: No formal comment letter was sent to the preparing agency.

Dated: March 25, 2003.
Joseph C. Montgomery,
Director, NEPA Compliance Division, Office of Federal Activities.

[FR Doc. 03-7503 Filed 3-27-03; 8:45 am]

BILLING CODE 6560-50-P